DEPARTMENT OF AGRICULTURE

Food Safety and Inspection Service

[Docket No. FSIS-2013-0037]

RIN 0583-AD32

Discontinuation of the Qualitative (30 mL) Campylobacter Analysis for Young Chickens

AGENCY: Food Safety and Inspection Service, USDA.

ACTION: Notice.

SUMMARY: The Food Safety and Inspection Service (FSIS) is discontinuing the use of its 30-mL qualitative analysis for Campylobacter for young chickens. The Agency suspended this analysis on June 3, 2013. FSIS evaluated the available Campylobacter data, and its analysis suggested that the performance standard based on an analysis of the 1-mL sample volume is sufficiently sensitive to identify establishments whose process control is substandard. This is the only change that FSIS has made to its Campylobacter sampling program.

DATES: Comments on this notice must be received by March 24, 2014.

ADDRESSES: FSIS invites interested persons to submit comments on this notice. Comments may be submitted by the following methods:

• Federal eRulemaking Portal: This Web site provides the ability to type short comments directly into the comment field on this Web page or attach a file for lengthier comments. Go to http://www.regulations.gov. Follow the on-line instructions at that site for submitting comments.

• Mail, including CD-ROMs etc.: Send to Docket Room Manager, U.S. Department of Agriculture, Food Safety and Inspection Service, Patriots Plaza 3, 1400 Independence Avenue SW., Mailstop 3782, Room 8-163B, Washington, DC 20250-3700.

• Hand-or courier-delivered submittals: Deliver to Docket Room Manager, Patriots Plaza 3, 355 E Street SW., Room 8-163B, Washington, DC 20250-3700.

FOR FURTHER INFORMATION CONTACT: Rachel Edelstein, Assistant Administrator, Office of Policy and Program Development, FSIS, U.S. Department of Agriculture, 1400 Independence Avenue SW., Washington, DC 20250-3700; Telephone: (202) 720-2709.

SUPPLEMENTARY INFORMATION:

Background

On May 14, 2010, FSIS published a Federal Register notice announcing its intent to implement new Salmonella and Campylobacter performance standards for young chickens and young turkeys (New Performance Standards for Salmonella and Campylobacter in Young Chicken and Turkey Slaughter Establishments; New Compliance Guides, 75 FR 27288). In the notice, the Agency stated that it intended to implement new Salmonella performance standards, but that it was leaving unchanged the current sampling procedures for Salmonella.

For the young chicken Campylobacter performance standard, the Agency stated that it planned to use a combination of a smaller, 1-mL quantitative, and a larger, 30-mL qualitative, sample portion. The 30-mL portion analysis detects lower levels of Campylobacter, and the 1-mL portion is only able to detect higher levels. The Agency said that it would test each of the 51 samples in a Salmonella verification set for Campylobacter using the initial 1-mL sample portion, and if the 1-mL procedure was negative, the Agency would analyze the 30-mL portion. The performance standard would have allowed a maximum of 27 positive carcasses on the 30-mL sample portion, and only 8 Campylobacter-positive samples on the 1-mL portion.

On March 21, 2011, the Agency issued another Federal Register notice to respond to public comments submitted in response to the May 2010 notice and to explain the changes that the Agency adopted after analyzing the comments (New Performance Standards for Salmonella and Campylobacter in Young Chicken and Turkey Slaughter Establishments; Response to Comments and Announcement of Implementation Schedule, 76 FR 15282). In that notice, FSIS explained that it had decided to use only the results of the 1-mL quantitative portion to assess whether establishments were meeting the new Campylobacter performance standard. The Agency said that it would continue to perform internal analysis of the 30-mL sample results and to publicly report aggregated data. FSIS also stated that, after 90 percent of eligible establishments had been sampled for two full sets, the Agency would decide whether additional actions relating to Campylobacter would be necessary.

Suspension and Discontinuation of the 30-mL Analysis

In the May 31, 2013, edition of the FSIS Constituent Update, FSIS announced that with nearly 90 percent of eligible establishments having completed two Campylobacter sets, the Agency had evaluated the available Campylobacter data. Its analysis showed that a performance standard based on an analysis of the 1-mL sample volume is sufficiently sensitive to identify establishments whose process control is substandard (http://www.fsis.usda.gov/wps/wcm/connect/9a3a7078-0ff4-4ebc-8de6-ad889382fd7f/Const_Update_053113.pdf?MOD=AJPERES).

The Agency determined that the minor sensitivity gained by including the 30-mL portion does not warrant the resources required to conduct the sampling, and that there is greater value in moving laboratory resources reserved for this effort to other sampling projects. The Agency included a link to a report that describes the methods used to conduct this analysis and a review of the 30-mL data. The report is available on the FSIS Web page at: http://www.fsis.usda.gov/shared/PDF/Campylobacter_Methods_Comparison_Report.pdf?redirecthttp=true. FSIS did not receive any comments on this report or on its decision to suspend the use of the 30-mL qualitative analysis.

FSIS is issuing this notice to announce that it has decided to discontinue the use of the 30-mL qualitative analysis for Campylobacter. This is the only change in this sampling program.

USDA Nondiscrimination Statement

The U.S. Department of Agriculture (USDA) prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives and notices. Customers can add or delete subscriptions themselves, and have the option to password protect their accounts.

Done in Washington, DC: February 12, 2014.
Alfred V. Almanza,
Administrator.

[FR Doc. 2014-03716 Filed 2-20-14; 8:45 am]

BILLING CODE 3410-DM-P